ENVIRONMENTAL PROTECTION AGENCY

[FRL-9900-42-ORD: Docket ID No. EPA-HQ-ORD-2013-0620]

Notice of Workshop and Call for Information on Integrated Science Assessment for Oxides of Nitrogen and Oxides of Sulfur

AGENCY: Environmental Protection Agency (EPA).

ACTION: Notice; call for information.

SUMMARY: The U.S. EPA Office of Research and Development's National Center for Environmental Assessment (NCEA) is preparing an Integrated Science Assessment (ISA) as part of the review of the secondary National Ambient Air Quality Standards (NAAQS) for oxides of nitrogen (NOX) and oxides of sulfur (SOX). This ISA is intended to update the scientific assessment presented in the Integrated Science Assessment for Oxides of Nitrogen and Sulfur—Ecological Criteria (EPA 600/R-08/082F), published in December 2008. Interested parties are invited to assist the EPA in developing and refining the scientific information base for the review of the secondary NOX and SOX NAAQS by submitting research studies that have been published, accepted for publication, or presented at a public scientific meeting.

The EPA is also announcing that a workshop entitled “Workshop to Discuss Policy-Relevant Science to Inform EPA's Review of the Secondary NOX and SOX NAAQS” is being organized by NCEA and the EPA Office of Air and Radiation's Office of Air Quality Planning and Standards (OAQPS). The workshop will be held October 1 to 3, 2013, in Research Triangle Park, North Carolina. The workshop will be open to attendance by interested public observers on a first-come, first-served basis up to the limits of available space.

DATES: The workshop will be held October 1 to 3, 2013. All communications and information submitted in response to notice of the workshop should be received by EPA by September 27, 2013.

ADDRESSES: The workshop will be held at U.S. EPA, 109 T.W. Alexander Drive, Research Triangle Park, North Carolina. An EPA contractor, ICF International, is providing logistical support for the workshop. Please register by going to https://sites.google.com/site/soxnoxkickoffworkshop/. The pre-registration deadline is September 27, 2013. Please direct questions regarding workshop registration or logistics to Courtney Skuce at EPA_NAAQS_Workshop@icfi.com or by phone at (919) 293-1660. For specific questions regarding technical aspects of the workshop see the section of this notice entitled FOR FURTHER INFORMATION CONTACT.

Information in response to the call for information may be submitted electronically, by mail, by facsimile, or by hand delivery/courier. Please follow the detailed instructions as provided in the section of this notice entitled SUPPLEMENTARY INFORMATION.

FOR FURTHER INFORMATION CONTACT: For details on the period for submission of research information from the public, contact the Office of Research and Development (ORD) Docket; telephone: 202-566-1752; facsimile: 202-566-9744; or email: Docket_ORD@epa.gov. For technical information, contact Tara Greaver, Ph.D., NCEA, telephone: (919) 541-5762; facsimile: (919) 541-2435; or email: greaver.tara@epa.gov or Ginger Tennant, OAQPS, telephone: (919) 541-4072 or email: tennant.ginger@epa.gov.

SUPPLEMENTARY INFORMATION:

I. Information About the Project

Section 108(a) of the Clean Air Act directs the Administrator to issue “air quality criteria” for certain air pollutants. These air quality criteria are to “accurately reflect the latest scientific knowledge useful in indicating the kind and extent of all identifiable effects on public health or welfare, which may be expected from the presence of such pollutant in the ambient air. . . .” Under section 109 of the Act, EPA is then to establish NAAQS for each pollutant for which EPA has issued criteria. Section 109(d) of the Act subsequently requires periodic review and, if appropriate, revision of existing air quality criteria to reflect advances in scientific knowledge on the effects of the pollutant on public health and welfare. EPA is also to revise the NAAQS, if appropriate, based on the revised air quality criteria.

NOX and SOX are two of six “criteria” pollutants for which EPA has established NAAQS. Periodically, EPA reviews the scientific basis for these standards by preparing an ISA. The ISA, along with additional technical and policy assessments conducted by OAQPS, form the basis for EPA decisions on the adequacy of existing NAAQS and the appropriateness of new or revised standards.

At the start of a NAAQS review, EPA issues an announcement of the review and notes the initiation of the development of the ISA. At that time, EPA also issues a request that the public submit scientific literature that they want to bring to the attention of the Agency for consideration in the review process. The Clean Air Scientific Advisory Committee (CASAC), an independent scientific advisory committee mandated by the Clean Air Act, conducts independent expert scientific review of EPA's draft ISAs. As the process proceeds, the public will have opportunities to review and comment on draft NOX and SOX ISAs. These opportunities will also be announced in the Federal Register.

For the review of the NOX and SOX NAAQS being initiated by this notice, the Agency is interested in obtaining additional new information on how gas-phase and deposition of these pollutants affects all ecosystem types in the US. Studies of particular interest are those evaluating the effects of exposure to gas-phase or deposition of NOX and SOX on laboratory plants and/or animals, field studies on ecosystem structure and/or function, including but not limited to studies on biogeochemistry, biodiversity, population and/or community structure. Deposition of NOX and SOX contribute to deposition of total nitrogen (N) and total sulfur (S) categories. General ecological effects due to deposition are ecosystem acidification (N + S deposition), nutrient enrichment (N deposition), eutrophication (N deposition) and sulfur induced mercury methylation (S deposition). EPA also seeks recent information in other areas of NOX and SOX research such as chemistry and physics, sources and emissions, analytical methodology, transport and transformation in the environment, and ambient concentrations in addition to information on reduced N and organic N to understand how NOX contributes to total N loading. This and other selected literature relevant to a review of the NAAQS for NOX and SOX will be assessed in the forthcoming NOX and SOX ISA.

As part of this review of the NOX and SOX NAAQS, EPA intends to sponsor a workshop on October 1 to 3, 2013, to inform the planning for EPA's review of the secondary (welfare-based) NAAQS for NOX and SOX. Consistent with the NAAQS review process,¹ the workshop will provide an opportunity to highlight key policy-relevant science issues around which EPA would structure the review. In workshop discussions, EPA and experts from other organizations will be expected to highlight significant new and emerging NOX and SOX research and make recommendations to the Agency regarding the design and scope of this review. The goal of the workshop is to ensure that this review focuses on the key policy-relevant issues and considers the most meaningful new science to inform our understanding of these issues. Workshop discussions will provide important input as EPA considers the appropriate design and scope of major elements of the review that will inform the Agency's policy assessment. These elements include an integrated review plan (IRP) highlighting the key policy-relevant issues; an integrated science assessment; and a risk and exposure assessment. We intend that workshop discussions will build upon three prior assessments or events (please see http://www.epa.gov/ttn/naaqs/standards/no2so2sec/cr.html to obtain a copy of these and other related documents):

¹ More information on the NAAQS review process is provided at: http://www.epa.gov/ttn/naaqs/.

1. Secondary National Ambient Air Quality Standards for Nitrogen Dioxide; Final Rule (40 CFR Part 50 [EPA-HQ-OAR-2007-1145], April 3, 2012). The preamble to the final rule included detailed discussions of policy-relevant issues central to the last review.

2. Integrated Science Assessment for Oxides of Nitrogen and Sulfur—Ecological Criteria (EPA 600/R-08/082F, December 2008).

3. Risk and Exposure Assessment to Support the Review of the NO2 Primary National Ambient Air Quality Standard (EPA 452/R-09/008a, September 2009).

Based in large part on the input received during this workshop, EPA will develop a draft IRP that will outline the schedule, process, and approaches for evaluating the relevant scientific information, assessing risks to the environment and addressing the key policy-relevant issues. The CASAC will be asked to review the draft integrated review plan, and the public will have the opportunity to comment on it as well. The final integrated review plan will be used as a framework to guide the review.

II. How To Submit Technical Comments to the Docket at www.regulations.gov

Submit your comments, identified by Docket ID No. EPA-HQ-ORD-2013-0620 by one of the following methods:

• www.regulations.gov: Follow the on-line instructions for submitting comments.

• Email: Docket_ORD@epa.gov.

• Fax: 202-566-9744.

• Mail: Office of Research and Development (ORD) Docket (Mail Code: 28221T), U.S. Environmental Protection Agency, 1200 Pennsylvania Avenue NW., Washington, DC 20460. The phone number is 202-566-1752.

• Hand Delivery: The ORD Docket is located in the EPA Headquarters Docket Center, Room 3334, EPA West Building, 1301 Constitution Avenue NW., Washington, DC. The EPA Docket Center Public Reading Room is open from 8:30 a.m. to 4:30 p.m., Monday through Friday, excluding Federal holidays. The telephone number for the Public Reading Room is 202-566-1744. Such deliveries are only accepted during the docket's normal hours of operation, and special arrangements should be made for deliveries of boxed information. If you provide comments by mail or hand delivery, please submit three copies of the comments. For attachments, provide an index, number pages consecutively with the comments, and submit an unbound original and three copies.

Instructions: Direct your comments to Docket ID No. EPA-HQ-ORD-2013-0620. Please ensure that your comments are submitted within the specified comment period. Comments received after the closing date will be marked “late,” and may only be considered if time permits. It is EPA's policy to include all comments it receives in the public docket without change and to make the comments available online at www.regulations.gov, including any personal information provided, unless a comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the ORD Docket in the EPA Headquarters Docket Center.

Dated: August 21, 2013.
Debra B. Walsh,
Acting Director, National Center for Environmental Assessment.

[FR Doc. 2013-21025 Filed 8-28-13; 8:45 am]

BILLING CODE 6560-50-P